DEPARTMENT OF JUSTICE

Notice of Lodging of Consent Decree Under the Clean Air Act

Pursuant to 28 CFR 50.7, notice is hereby given that on September 30, 2010, a proposed Consent Decree in United States of America v. Dakota Ethanol, LLC, Civil Action No. 4:10-CV-04144-LLP, was lodged with the United States District Court for the District of South Dakota.

The Consent Decree would resolve claims asserted by the United States against Dakota Ethanol, LLC pursuant to Sections 111 and 502(a) of the Clean Air Act (the “Act”), 42 U.S.C. 7411 and 7661a, seeking injunctive relief and the assessment of civil penalties for Defendant's alleged violations of the Act. Dakota Ethanol, LLC owns and operates an ethanol production facility in Lake County, South Dakota, near Wentworth (the “Facility”). The complaint alleges that Defendant violated the Facility's Title V operating permit by exceeding certain VOC emissions limits, conducting invalid testing to demonstrate compliance with its VOC emissions limits, and failing to timely conduct required VOC stack testing. The complaint also alleges that Defendant violated both its Title V operating permit and regulations promulgated pursuant to the New Source Performance Standards program by failing to maintain the internal floating roof on the liquid inside several storage vessels at the Facility.

The proposed Consent Decree would require Dakota Ethanol, LLC to conduct all VOC Performance Tests in accordance with 40 CFR part 51, Appendix M; Method 207 and 40 CFR part 60, Appendix A; Method 18 and to report the results of each performance test to EPA within ninety (90) days. In addition, the proposed Consent Decree would require Defendant to apply to include the testing requirements in either a federally enforceable permit or request a site-specific amendment to the South Dakota SIP to include the requirements enumerated in the Consent Decree within one hundred eighty (180) days. Finally, the proposed Consent Decree would require Dakota Ethanol, LLC to pay a $75,000 civil penalty.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States of America v. Dakota Ethanol, LLC, D.J. Ref. 90-5-2-1-08636.

The Consent Decree may be examined at U.S. EPA Region 8, 1595 Wynkoop Street, Denver, CO 80202. During the public comment period, the Consent Decree may also be examined on the following Department of Justice Web site, http://www.usdoj.gov/enrd/Consent Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S. Treasury or, if by e-mail or fax, forward a check in that amount to the Consent Decree Library at the stated address.

Maureen Katz,
Assistant Chief, Environmental Enforcement Section, Environment and Natural Resources Division.

[FR Doc. 2010-25364 Filed 10-7-10; 8:45 am]

BILLING CODE 4410-15-P